SECURITIES AND EXCHANGE COMMISSION

[File No. 500-1]

In the Matter of Appiant Technologies, Inc., Cobalis Corp., FutureLink Corp., STM Wireless, Inc., Supermail International, Inc. (n/k/a PBHG, Inc.), and Women First Healthcare, Inc.; Order of Suspension of Trading

August 10, 2010.

It appears to the Securities and Exchange Commission that there is a lack of current and accurate information concerning the securities of Appiant Technologies, Inc. because it has not filed any periodic reports since the period ended September 30, 2002.

It appears to the Securities and Exchange Commission that there is a lack of current and accurate information concerning the securities of Cobalis Corp. because it has not filed any periodic reports since the period ended December 31, 2007.

It appears to the Securities and Exchange Commission that there is a lack of current and accurate information concerning the securities of FutureLink Corp. because it has not filed any periodic reports since the period ended March 31, 2001.

It appears to the Securities and Exchange Commission that there is a lack of current and accurate information concerning the securities of STM Wireless, Inc. because it has not filed any periodic reports since the period ended September 30, 2002.

It appears to the Securities and Exchange Commission that there is a lack of current and accurate information concerning the securities of Supermail International, Inc. (n/k/a PBHG, Inc.) because it has not filed any periodic reports since the period ended December 31, 1997.

It appears to the Securities and Exchange Commission that there is a lack of current and accurate information concerning the securities of Women First Healthcare, Inc. because it has not filed any periodic reports since the period ended December 31, 2003.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 10, 2010, through 11:59 p.m. EDT on August 23, 2010.

By the Commission.
Jill M. Peterson,
Assistant Secretary.

[FR Doc. 2010-20002 Filed 8-10-10; 4:15 pm]

BILLING CODE 8010-01-P